DEPARTMENT OF TRANSPORTATION

Federal Aviation Administration

14 CFR Part 39

[Docket No. FAA-2020-0026; Product Identifier 2018-SW-052-AD]

RIN 2120-AA64

Airworthiness Directives; Airbus Helicopters

AGENCY: Federal Aviation Administration (FAA), DOT.

ACTION: Notice of proposed rulemaking (NPRM).

SUMMARY: The FAA proposes to adopt a new airworthiness directive (AD) for Airbus Helicopters Model AS332C, AS332C1, AS332L, AS332L1, AS332L2, and EC225LP helicopters. This proposed AD would require revising the Rotorcraft Flight Manual (RFM) for your helicopter and either installing placards or removing the hoist arm. This proposed AD was prompted by a failure of a right-hand (RH) side lateral sliding plug door (sliding door) to jettison. The actions of this proposed AD are intended to address an unsafe condition on these products.

DATES: The FAA must receive comments on this proposed AD by March 13, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2020-0026; or in person at Docket Operations between 9 a.m. and 5 p.m., Monday through Friday, except Federal holidays. The AD docket contains this proposed AD, the European Aviation Safety Agency (EASA) AD, the economic evaluation, any comments received, and other information. The street address for Docket Operations is listed above. Comments will be available in the AD docket shortly after receipt.

For service information identified in this final rule, contact Airbus Helicopters, 2701 N Forum Drive, Grand Prairie, TX 75052; telephone 972-641-0000 or 800-232-0323; fax 972-641-3775; or at https://www.airbus.com/helicopters/services/technical-support.html. You may view the referenced service information at the FAA, Office of the Regional Counsel, Southwest Region, 10101 Hillwood Pkwy., Room 6N-321, Fort Worth, TX 76177.

FOR FURTHER INFORMATION CONTACT: Kristin Bradley, Aviation Safety Engineer, Safety Management Section, Rotorcraft Standards Branch, FAA, 10101 Hillwood Pkwy., Fort Worth, TX 76177; telephone 817-222-5110; email kristin.bradley@faa.gov.

SUPPLEMENTARY INFORMATION:

Comments Invited

The FAA invites you to participate in this rulemaking by submitting written comments, data, or views. The FAA also invites comments relating to the economic, environmental, energy, or federalism impacts that resulted from adopting the proposals in this document. The most helpful comments reference a specific portion of the proposal, explain the reason for any recommended change, and include supporting data. To ensure the docket does not contain duplicate comments, commenters should send only one copy of written comments, or if comments are filed electronically, commenters should submit them only one time.

The FAA will file in the docket all comments received, as well as a report summarizing each substantive public contact with FAA personnel concerning this proposed rulemaking. Before acting on this proposal, the FAA will consider all the comments received on or before the closing date for comments. The FAA will consider comments filed after the comment period has closed if it is possible to do so without incurring expense or delay. The FAA may change this proposal in light of the comments received.

Discussion

EASA, which is the Technical Agent for the Member States of the European Union, has issued EASA AD No. 2018-0140-E, dated June 29, 2018 (EASA AD 2018-0140-E), to correct an unsafe condition for Airbus Helicopters (formerly Eurocopter, Eurocopter France, Aerospatiale) Model AS 332 C, AS 332 C1, AS 332 L, AS 332 L1, AS 332 L2, and EC 225 LP helicopters. EASA advises that during a jettison test of the RH side sliding door, the sliding door became blocked between the hoist, airframe, and access step. Interference was identified between the hoist arm and the sliding door median fitting (reinforced bracket). EASA identifies the reinforced bracket as Airbus Helicopter modification (MOD) 0726841, which was required by EASA AD No. 2015-0167, dated August 12, 2015. EASA states that this condition could prevent jettisoning of the RH sliding door in an emergency, subsequently obstructing evacuation, and possibly resulting in injury to occupants. To correct this unsafe condition, EASA AD 2018-0140-E requires removing the hoist arm, or alternatively revising the applicable RFM and installing placards to specify using the normal door handle instead of the jettison handle for the RH side sliding door.

EASA states that Airbus Helicopters is developing a modification to eliminate the interference between the hoist arm and the reinforced bracket. As a result, EASA considers its AD an interim action and states that further AD action may follow.

FAA's Determination

These helicopters have been approved by EASA and are approved for operation in the United States. Pursuant to the FAA's bilateral agreement with the European Union, EASA has notified the FAA of the unsafe condition described in its AD. The FAA is issuing this AD after evaluating all information provided by EASA and determining the unsafe condition exists and is likely to exist or develop on other helicopters of these same type designs.

Related Service Information Under 1 CFR Part 51

Airbus Helicopters has co-published as one document Emergency Alert Service Bulletin (EASB) No. 01.00.89, Revision 1, dated June 28, 2018, for Model AS332-series helicopters; No. 04A014, Revision 1, dated June 28, 2018, for Model EC225 helicopters; and No. 01.00.52, Revision 1, dated June 28, 2018, for non-FAA type certificated Model AS532 helicopters. EASB Nos. 01.00.89 and 04A014 are proposed for incorporation by reference in this proposed AD. EASB No. 01.00.52 is not proposed for incorporation by reference in this proposed AD. This service information provides pages to add to the emergency and normal procedures sections of the RFM, and specifies either removing the hoist arm or installing placards that require using the normal door handle instead of the jettison handle for the RH side sliding door. This service information further allows installing the placards during each installation of the hoist arm and removing the placards with each removal of the hoist arm.

This service information is reasonably available because the interested parties have access to it through their normal course of business or by the means identified in the ADDRESSES section.

Other Related Service Information

Airbus Helicopters has issued Service Bulletin (SB) No. AS332-52.00.43 for Model AS332C, AS332C1, AS332L, AS332L1, and AS332L2 helicopters and SB No. EC225-52-008 for Model EC225LP helicopters, both Revision 0 and dated June 23, 2015. This service information contains procedures for installing the reinforced bracket identified as MOD 0726841.

Proposed AD Requirements

This proposed AD would require revising the RFM for your helicopter by adding emergency and normal procedures and installing placards to require using the normal door handle instead of the jettison handle for the RH side sliding door. Alternatively, this proposed AD would allow removing the hoist arm instead of installing the placards.

Differences Between This Proposed AD and the EASA AD

The EASA AD requires either removing the hoist arm or prohibiting use of the RH sliding door jettison handle by revising the RFM and installing placards. This proposed AD would require revising the applicable RFM for your helicopter regardless of whether the hoist arm is removed.

Interim Action

The FAA considers this proposed AD to be an interim action. The design approval holder is currently developing a modification that will address the unsafe condition identified in this proposed AD. Once this modification is developed, approved, and available, the FAA might consider additional rulemaking.

Costs of Compliance

The FAA estimates that this proposed AD would affect 36 helicopters of U.S. Registry. Labor costs are estimated at $85 per work-hour. Based on these numbers, the FAA estimates the following costs to comply with this proposed AD.

Revising the RFM for your helicopter would take about 1 work-hour for an estimated cost of $85 per helicopter or $3,060 for the U.S. fleet.

Installing the placards would take about 1 work-hour for an estimated cost of $85 per helicopter or $3,060 for the U.S. fleet. Alternatively, removing the hoist arm would take about 1 work-hour for an estimated cost of $85 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters: Docket No. FAA-2020-0026; Product Identifier 2018-SW-052-AD.

(a) Applicability

This AD applies to Airbus Helicopters Model AS332C, AS332C1, AS332L, AS332L1, AS332L2, and EC225LP helicopters, certificated in any category, with a hoist arm and with right-hand (RH) side lateral sliding plug door (sliding door) reinforced bracket modification (MOD) 0726841 installed.

Note 1 to paragraph (a) of this AD: Airbus Helicopters reinforced bracket MOD 0726841 may also be identified as sliding door median fitting reinforcement MOD 07.26841.

(b) Unsafe Condition

This AD defines the unsafe condition as interference between the hoist arm and the reinforced bracket resulting in failure of the sliding door to jettison. This condition could prevent helicopter occupants from evacuating the helicopter during an emergency.

(c) Comments Due Date

The FAA must receive comments by March 13, 2020.

(d) Compliance

You are responsible for performing each action required by this AD within the specified compliance time unless it has already been accomplished prior to that time.

(e) Required Actions

(1) Within 10 hours time-in-service:

(i) Revise the Rotorcraft Flight Manual for your helicopter by inserting the Emergency Procedures page and the Normal Procedures page applicable to your helicopter model and configuration from Appendix 4.C. Flight Manual of Airbus Helicopters Emergency Alert Service Bulletin (EASB) No. 01.00.89, Revision 1, dated June 28, 2018 (EASB 01.00.89), or Airbus Helicopters EASB No. 04A014, Revision 1, dated June 28, 2018 (EASB 04A014). Inserting a different document with information identical to that in Appendix 4.C. Flight Manual of EASB 01.00.89 or EASB 04A014 is acceptable for compliance with the requirements of this paragraph.

(ii) Cover existing placards for each RH sliding door in accordance with Appendix 4.B. Masking Tapes and Labels (RH lateral sliding door) of EASB 01.00.89 or EASB 04A014.

(iii) Install new placards in accordance with Appendix 4.A. Labels and Appendix 4.B. Masking Tapes and Labels (RH lateral sliding door) of EASB 01.00.89 or EASB 04A014.

(2) After complying with paragraph (e)(1) of this AD, each time the hoist arm is removed from the helicopter, you may remove the markings and placards that are required by paragraphs (e)(1)(ii) and (iii) of this AD. Before the hoist arm is re-installed, you must re-install the markings and placards that are required by paragraphs (e)(1)(ii) and (iii) of this AD.

(f) Alternative Methods of Compliance (AMOCs)

(1) The Manager, Safety Management Section, Rotorcraft Standards Branch, FAA, may approve AMOCs for this AD. Send your proposal to: Kristin Bradley, Aviation Safety Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(g) Additional Information

(1) Airbus Helicopters Service Bulletin (SB) No. AS332-52.00.43 and SB No. EC225-52-008, both Revision 0 and dated June 23, 2015, which are not incorporated by reference, contain additional information about the subject of this AD. For service information identified in this AD, contact Airbus Helicopters, 2701 N Forum Drive, Grand Prairie, TX 75052; telephone 972-641-0000 or 800-232-0323; fax 972-641-3775; or at https://www.airbus.com/helicopters/services/technical-support.html. You may view a copy of the service information at the FAA, Office of the Regional Counsel, Southwest Region, 10101 Hillwood Pkwy., Room 6N-321, Fort Worth, TX 76177.

(2) The subject of this AD is addressed in European Aviation Safety Agency (EASA) AD No. 2018-0140-E, dated June 29, 2018. You may view the EASA AD on the internet at https://www.regulations.gov in the AD Docket.

(h) Subject

Joint Aircraft Service Component (JASC) Code: 5200, Doors.

Issued in Fort Worth, Texas, on February 4, 2020.
Lance T. Gant,
Director, Compliance & Airworthiness Division, Aircraft Certification Service.

[FR Doc. 2020-02711 Filed 2-11-20; 8:45 am]

BILLING CODE 4910-13-P